DEPARTMENT OF THE INTERIOR

Fish and Wildlife Service

Availability of Draft Conservation Strategy for the Grizzly Bear in the Yellowstone Ecosystem

AGENCY: Fish and Wildlife Service, Interior.

ACTION: Notice of document availability.

SUMMARY: The Fish and Wildlife Service (Service), announces the availability for public review of the Draft Conservation Strategy for the grizzly bear (Ursus arctos horribilis) in the Yellowstone Ecosystem. The Conservation Strategy is the management plan for the grizzly in the Yellowstone ecosystem that will be used when the population is recovered and delisted. Completion of the Conservation Strategy is a task in the Grizzly Bear Recovery Plan. We solicit review and comment from the public on this draft information.

DATES: Comments on the draft supplemental information must be received on or before May 31, 2000 to ensure that they will be received in time for our consideration prior to finalization of the document.

ADDRESSES: Persons wishing to review the Draft Conservation Strategy may obtain a copy by contacting the Grizzly Bear Recovery Coordinator, U.S. Fish and Wildlife Service, University Hall, Room 309, University of Montana, Missoula, Montana 59812. The document also is available for viewing and downloading at: <http://www.r6.fws.gov/endspp/grizzly/>. Written comments and materials regarding this information should be sent to the Recovery Coordinator at the address given above, or can be mailed electronically to <FW6_grizzly@fws.gov>. Comments and materials received are available on request for public inspection, by appointment, during normal business hours at the above address.

FOR FURTHER INFORMATION CONTACT: Dr. Christopher Servheen, Grizzly Bear Recovery Coordinator (see ADDRESSES above), at telephone (406) 243-4903.

SUPPLEMENTARY INFORMATION:

Background

Restoring an endangered or threatened animal or plant to the point where it is again a secure, self-sustaining member of its ecosystem is a primary goal of the our endangered species program. Recovery plans guide the recovery efforts for listed species native to the United States. Recovery plans describe actions considered necessary for conservation of the species, establish criteria for recovery levels for downlisting or delisting them, and estimate time and cost for implementing the recovery measures needed.

Under the provisions of the Endangered Species Act of 1973 (Act) as amended (16 U.S.C. 1531 et seq.), we approved the revised Grizzly Bear Recovery Plan on September 10, 1993.

The grizzly bear was listed under the Act as a threatened species in the 48 conterminous States on July 28, 1995 (40 FR 31734). Threats to grizzly bear populations come primarily from habitat modification caused by human activities and from direct bear/human conflicts resulting from recreational and resource use activities, highway and railroad corridors, illegal mortality, etc. The grizzly bear population in each of the ecosystems included in the Plan can be delisted independently once recovery criteria stated in the Plan are met.

The Plan provides that prior to delisting of the grizzly bear population in each ecosystem a conservation strategy will be developed and implemented that outlines all habitat and regulatory mechanisms that will be in force after recovery of that population.

The Yellowstone Ecosystem Draft Conservation Strategy is now available for review and comment.

Public Comments Solicited

We solicit written comments on the supplemental information described above. All comments received by the date specified in the DATES section above will be considered prior to finalization of the strategy.

Authority: The authority for this action is section 4(f) of the Endangered Species Act, 16 U.S.C. 1533(f).

Dated: February 15, 2000.
Terry T. Terrell,
Deputy Regional Director, Denver, Colorado

[FR Doc. 00-5073 Filed 3-1-00; 8:45 am]

BILLING CODE 4310-55-P